DEPARTMENT OF HEALTH AND HUMAN SERVICES

Centers for Disease Control and Prevention

[60-Day-11-0621]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Youth Tobacco Surveys (NYTS) 2012-2014—Revision—National Center for Chronic Disease Prevention and Health Promotion (NCCDPHP), Centers for Disease Control and Prevention (CDC).

Background and Brief Description

Tobacco use is a major preventable cause of morbidity and mortality in the U.S. A limited number of health risk behaviors, including tobacco use, account for the overwhelming majority of immediate and long-term sources of morbidity and mortality. Because many health risk behaviors are established during adolescence, there is a critical need for public health programs directed towards youth, and for information to support these programs.

Since 2004, the Centers for Disease Control and Prevention (CDC) has periodically collected information about tobacco use among adolescents (National Youth Tobacco Survey (NYTS) 2004, 2006, 2009, 2011, OMB no. 0920-0621, exp. 12/31/2011). This surveillance activity builds on previous surveys funded by the American Legacy Foundation in 1999, 2000, and 2002.

At present, the NYTS is the most comprehensive source of nationally representative tobacco data among students in grades 9-12, moreover, the NYTS is the only source of such data for students in grades 6-8. The NYTS has provided national estimates of tobacco use behaviors, information about exposure to pro- and anti-tobacco influences, and information about racial and ethnic disparities in tobacco-related topics. Information collected through the NYTS is used to identify trends over time, to inform the development of tobacco cessation programs for youth, and to evaluate the effectiveness of existing interventions and programs.

CDC plans to request OMB approval to conduct additional cycles of the NYTS in 2012, 2013, and 2014. The survey will be conducted among nationally representative samples of students attending public and private schools in grades 6-12, and will be administered to students as an optically scannable, eight-page booklet of multiple-choice questions. Information supporting the NYTS also will be collected from state-, district-, and school-level administrators and teachers. During the 2012-2014 timeframe, a number of changes will be incorporated that reflect CDC's ongoing collaboration with FDA and the need to measure progress toward meeting strategic goals established by the Family Smoking Prevention and Tobacco Control Act. Information collection will occur annually and will include a number of new questions, as well as increased representation of minority youth.

The survey will examine the following topics: use of cigarettes, smokeless tobacco, cigars, pipes, bidis, and kreteks, as well as newer tobacco products (such as snus, electronic cigarette, and dissolvable tobacco products); knowledge and attitudes; media and advertising; access to tobacco products and enforcement of restrictions on access; school curriculum; environmental tobacco smoke exposure; and cessation.

Results of the NYTS will continue to be used for public health program planning and evaluation. Information collected through the NYTS is also expected to provide multiple measures and data for monitoring progress on six of the 20 tobacco-related objectives for Healthy People 2020.

OMB approval will be requested for three years. There are no costs to respondents other than their time.

Estimated Annualized Burden Hours
Type of respondent | Form name | Number of respondents | Number of responses per respondent | Average burden per response (in hour) | Total burden (in hour)
State Administrators | State-level Recruitment Script for the NYTS | 35 | 1 | 30/60 | 18
District Administrators | District-level Recruitment Script for the NYTS | 150 | 1 | 30/60 | 75
School Administrators | School-level Recruitment Script for the NYTS | 244 | 1 | 30/60 | 122
Teachers | Data Collection Checklist | 816 | 1 | 15/60 | 204
Students | National Youth Tobacco Survey | 24,591 | 1 | 45/60 | 18,443
Total |  |  |  |  | 18,862

Dated: June 9, 2011.
Daniel Holcomb,
Reports Clearance Officer, Centers for Disease Control and Prevention.

[FR Doc. 2011-14788 Filed 6-14-11; 8:45 am]

BILLING CODE 4163-18-P